DEPARTMENT OF HEALTH AND HUMAN SERVICES

Centers for Disease Control and Prevention

Healthcare Infection Control Practices Advisory Committee (HICPAC): Location Change

ACTION: Notice.

CDC announces the following change to the notice of meeting published October 2, 2001, 66 FR 50201.

Name: Healthcare Infection Control Practices Advisory Committee.

Times and Dates: 8:30 a.m.-5 p.m., November 13, 2001. 8:30 a.m.-4 p.m., November 14, 2001.

Old Place: CDC, Auditorium A, 1600 Clifton Road, NE., Atlanta, Georgia 30333.

NEW PLACE: Atlanta Marriott Century Center, 2000 Century Boulevard, NE., Atlanta, Georgia 30345. Telephone: 404-325-0000.

Status: Open to the public, limited only by the space available.

Summary: Notice is given that meeting place for Healthcare Infection Control Practices Advisory Committee has changed. The meeting status, and purpose, announced in the original notice remain the unchanged.

Contact Person for More Information: Michele L. Pearson, M.D., Executive Secretary, HICPAC, Division of Healthcare Quality Promotion, NCID, CDC, 1600 Clifton Road, NE., M/S A-07, Atlanta, Georgia 30333, telephone 404/498-1182.

The Director, Management Analysis and Services Office, has been delegated the authority to sign Federal Register notices pertaining to announcements of meetings and other committee management activities, for both the Centers for Disease Control and Prevention and the Agency for Toxic Substances and Disease Registry.

Dated: November 1, 2001.
John Burckhardt,
Acting Director, Management Analysis and Services Office, Centers for Disease Control and Prevention.

[FR Doc. 01-27905 Filed 11-6-01; 8:45 am]

BILLING CODE 4163-18-P